DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Suicide Prevention Lifeline—Crisis Center Survey—NEW

The Substance Abuse and Mental Health Services Administration's (SAMHSA), Center for Mental Health Services funds a National Suicide Prevention Lifeline Network, a system of toll-free telephone numbers that routes calls from anywhere in the United States to a network of more than 147 certified crisis centers that can link callers to local emergency, mental health, and social service resources. The technology permits calls to be directed immediately to a suicide prevention worker who is geographically closest to the caller.

Through its grantee which is administering the National Suicide Prevention Lifeline Network, SAMHSA developed a Crisis Center Survey in an effort to learn more about the capacities, skills, and unmet needs of the crisis centers involved in the Network. The completed Surveys will inform the Network's planning around technological capacity, network recruitment strategies, training, marketing, and other network resource development activities. The goal of this effort is to ensure that the telephonic routing system remains accurate, enhance quality services provided by networked crisis centers, increase service accessibility to people at risk for suicidal behavior, and optimize public health efforts to prevent suicide and suicidal behavior.

All 147 networked crisis centers will complete the Web-based Crisis Center Survey annually. The Survey requests information about organizational structure, staffing, scope of services, call center operations, quality assurance, community outreach/marketing, telephone equipment, data collection, and technical assistance needs.

The estimated annual response burden to collect this information is as follows:

Instrument | Number of respondents | Responses/respondent | Total number of responses | Burden/response (hours) | Annual burden (hours)
National Suicide Prevention Lifeline: Crisis Center Survey | 147 | 1 | 147 | 2 | 294

Send comments to Summer King, SAMHSA Reports Clearance Officer, Room 8-1099, 1 Choke Cherry Road, Rockville, MD 20850. Written comments should be received by January 14, 2011.

Dated: November 5, 2010.
Elaine Parry,
Director, Office of Management, Technology, and Operations.

[FR Doc. 2010-28668 Filed 11-12-10; 8:45 am]

BILLING CODE 4162-20-P